FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 011284-077.

Title: Ocean Carrier Equipment Management Association Agreement.

Parties: Alianca Navegacao e Logistica Ltda.; APL Co. Pte Ltd.; American President Lines, Ltd.; Maersk Line A/S; CMA CGM, S.A.; COSCO Shipping Co., Ltd; Evergreen Line Joint Service Agreement; Hamburg-Süd; Hapag-Lloyd AG; Hapag-Lloyd USA LLC; Ltd.; Hyundai Merchant Marine Co. Ltd.; Kawasaki Kisen Kaisha, Ltd.; Mediterranean Shipping Company, S.A.; Mitsui O.S.K. Lines Ltd.; Nippon Yusen Kaisha Line; Orient Overseas Container Line Limited; United Arab Shipping Limited; Yang Ming Marine Transport Corp.; and Zim Integrated Shipping Services, Ltd.

Filing Party: Jeffrey F, Lawrence, Esq. and Donald J. Kassilke, Esq.; Cozen O'Connor; 1200 Nineteenth Street NW., Washington, DC 20036.

Synopsis: The amendment deletes parties to the agreement; revises the affiliations of certain members; and reflects updates to the name and address of a party.

Agreement No.: 012206-003.

Title: Grimaldi/“K” Line Space Charter Agreement.

Parties: Grimaldi Deep Sea S.P.A.; Grimaldi Euromed S.p.A.; and Kawasaki Kisen Kaisha, Ltd.

Filing Party: John P. Meade, General Counsel; “K” Line America, Inc.; 6199 Bethlehem Road; Preston, MD 21655.

Synopsis: The amendment updates the Agreement to correct clerical errors and expands the geographic scope of the Agreement.

Agreement No.: 012486.

Title: Crowley/King Ocean Vessel Sharing Agreement.

Parties: Crowley Latin America Services, LLC and King Ocean Services Limited, Inc.

Filing Party: Wayne Rohde, Esq.; Cozen O'Connor; 1200 Nineteenth Street NW., Washington, DC 20036.

Synopsis: The agreement authorizes the parties to share vessels in the trade between Florida on the one hand and Costa Rica and Panama on the other hand.

By Order of the Federal Maritime Commission.
Dated: June 16, 2017.
Rachel E. Dickon,
Assistant Secretary.

[FR Doc. 2017-12946 Filed 6-20-17; 8:45 am]

BILLING CODE 6731-AA-P